DEPARTMENT OF HEALTH AND HUMAN SERVICES

Administration for Children and Families

Submission for Office of Management and Budget Review; Evaluation of the Trafficking Victim Assistance Program (TVAP) and Aspire: Child Trafficking Victim Assistance Program (New Collection)

AGENCY: Office of Planning, Research, and Evaluation, Administration for Children and Families, U.S. Department of Health and Human Services.

ACTION: Request for public comments.

SUMMARY: The Administration for Children and Families (ACF) Office of Planning, Research, and Evaluation (OPRE) is proposing a new data collection activity for the Evaluation of the Trafficking Victim Assistance Program (TVAP) and Aspire: Child Trafficking Victim Assistance Program (Aspire). The evaluation will examine the key characteristics and implementation of the programs, including the challenges, strengths, and successes.

DATES: Comments due February 9, 2026.

ADDRESSES: The public may view and comment on this information collection request at: https://www.reginfo.gov/public/do/PRAViewICR?ref_nbr=202601-0970-002. You can also obtain copies of the proposed collection of information by emailing opreinfocollection@acf.hhs.gov. Identify all emailed requests by the title of the information collection.

SUPPLEMENTARY INFORMATION:

Description: TVAP and Aspire are funded by the Office on Trafficking in Persons to provide time-limited comprehensive case management services to individuals who have experienced severe forms of human trafficking, including adults (TVAP) and children (Aspire). The programs also aim to (1) Develop and maintain a nationwide network of providers to conduct human trafficking outreach and provide direct services and community referrals, and (2) Establish local regional presence within each of the 10 ACF geographic regions to coordinate project activities and direct services. The purpose of the proposed information collection activity is to document and examine the goals of TVAP and Aspire following redesign in 2022, how the programs are structured and administered, how partnerships are developed and maintained, how clients reach the programs, how comprehensive case management services are provided, and factors that affect program implementation.

The proposed information collection activities include:

1. Semi-structured virtual interviews focused in three of the ACF geographic regions with:

a. Subrecipient service providers who provide case management services to TVAP and/or Aspire clients. Interviews will include questions about client referral and enrollment, case management service provision, support received from TVAP/Aspire leadership, interactions with community partners and/or government systems, and perceptions of the programs.

b. Other service providers who serve people referred from TVAP and/or Aspire but are not formal subrecipient partners. Interviews will include questions about providers' relationship to the programs, referral pathways through TVAP/Aspire, assistance provided to these clients, interactions with various groups related to TVAP/Aspire, and perceptions of the programs.

c. Local government system (e.g., law enforcement, child welfare) personnel who interact with TVAP/Aspire program staff, subrecipients, and/or clients. Interviews will include questions about their interactions with and perceptions of TVAP/Aspire.

d. Clients, i.e., people who have been enrolled in and received assistance through TVAP and/or Aspire beginning in Fiscal Year (FY) 2023. Respondents must be at least 18 years old at the time of the interview. Interviews will include questions about how they learned about the programs, services they received, what was helpful, and what could be improved.

2. A web-based survey of all providers that have participated as a TVAP and/or Aspire subrecipient beginning in FY 2023. The survey will include questions about organizational characteristics, client enrollment and services provision, and perceptions of program implementation, including challenges, strengths, and successes.

Respondents: TVAP and Aspire subrecipient service providers, other service providers (non-subrecipients) who receive TVAP and/or Aspire referrals, local government system personnel (e.g., law enforcement, child welfare professionals), and TVAP and/or Aspire clients (individuals who have been enrolled into the programs).

Annual Burden Estimates
Instrument | Total number of respondents | Total number of responses per respondent | Average burden hours per response | Total burden hours | Annual burden (in hours)
Subrecipient Interview Guide | 30 | 1 | 1.5 | 45 | 23
Other Service Provider Interview Guide | 20 | 1 | 1 | 20 | 10
Local Government Systems Interview Guide | 10 | 1 | 1 | 10 | 5
Client Interview Guide | 30 | 1 | 1 | 30 | 15
Subrecipient Survey | 100 | 1 | 0.58 | 58 | 29
Estimated Total Annual Burden Hours |  |  |  |  | 82

Authority: Public Law 106-386 section 107 [22 U.S.C. 7105].

Mary C. Jones,
ACF/OPRE Certifying Officer.

[FR Doc. 2026-00213 Filed 1-8-26; 8:45 am]

BILLING CODE 4184-50-P